DEPARTMENT OF EDUCATION

Reading First Advisory Committee

AGENCY: Department of Education, Office of Elementary and Secondary Education.

ACTION: Notice of Open Teleconference Meeting.

SUMMARY: This notice describes an open meeting of the Reading First Advisory Committee. Notice of the meeting is required by section 10(a)(2) of the Federal Advisory Committee Act and is intended to notify the public of their opportunity to attend.

Dates and Times: August 20, 2008, 10:30 a.m. until 12 p.m., Eastern Daylight Time.

ADDRESSES: The meeting will take place via conference call. The phone number to access the meeting is 800-988-9352. The participant code is 1988.

FOR FURTHER INFORMATION CONTACT: Deborah Spitz, Reading First Team Leader, Reading First Advisory Committee, 400 Maryland Avenue, SW., Washington, DC 20202; telephone: (202) 260-3793; fax: (202) 260-8969; e-mail: Deborah.Spitz@ed.gov.

SUPPLEMENTARY INFORMATION: The Reading First Advisory Committee is authorized by sections 1203(c)(2)(a) and 1202(e)(2) of the Elementary and Secondary Education Act (ESEA) of 1965, as amended. The Committee is established within the Department of Education to evaluate Reading First applications submitted by States, to review the progress reports that States submit after the third year of the grant period, to advise on the awarding of Targeted Assistance Grants, and to advise the Secretary on other issues that the Secretary deems appropriate.

The purpose of this meeting will be to review the application for Targeted Assistance funds from the state of Nevada. Nevada is the only state eligible to apply for funding this year, based on the data submitted in the 2007 Annual Performance Report. A subcommittee will review Nevada's application in advance of this meeting and make a recommendation for approval or disapproval to the full Committee.

At the last open meeting on June 23, 2008, the Committee decided to work on an analysis of the Reading First Impact Study: Interim Report. This analysis may be discussed during the August 20, 2008 meeting.

Individuals who will need accommodations for a disability in order to attend the meeting (e.g., interpreting services, assistance listening devices, or materials in alternative format) should notify Deborah Spitz at (202) 260-3793, no later than ten (10) days before the scheduled date of the meeting. We will attempt to meet requests for accommodations after this date but cannot guarantee their availability. The meeting site is accessible to individuals with disabilities.

Request for Written Comments: There will not be an opportunity for public comment during this meeting; however, members of the public are encouraged to submit written comments. Written comments should be submitted via e-mail at least ten (10) days prior to the scheduled date of the meeting to Deborah Spitz at Deborah.Spitz@ed.gov. These comments will be shared with the members of the Committee.

Records are kept of all Committee proceedings and are available for public inspection at 400 Maryland Ave. SW., Washington, DC 20202, from the hours of 9 a.m. to 5 p.m., Eastern Standard Time Monday through Friday.

Electronic Access to this Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Amanda Farris,
Deputy Assistant Secretary, the Office of Elementary and Secondary Education.

[FR Doc. E8-17535 Filed 7-30-08; 8:45 am]

BILLING CODE 4000-01-P